DEPARTMENT OF STATE

[Public Notice 7423]

60-Day Notice of Proposed Information Collection: Form DS-3083, Training Registration (For Non-U.S. Government Persons)

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Training Registration (For Non-U.S. Government Persons).

• OMB Control Number: 1405-0145.

• Type of Request: Extension of a Currently Approved Collection.

• Originating Office: Foreign Service Institute, Office of the Executive Director (FSI/EX).

• Form Number: DS-3083.

• Respondents: Business owners/persons desiring to enroll in FSI courses.

• Estimated Number of Respondents: 200.

• Estimated Number of Responses: 200.

• Average Hours Per Response: 0.5.

• Total Estimated Burden: 100.

• Frequency: On occasion.

• Obligation to Respond: Voluntary.

DATES: The Department will accept comments from the public on or before June 21, 2011.

ADDRESSES: You may submit comments by any of the following methods:

• E-mail: browncl@state.gov.

• Mail (paper, disk, or CD-ROM submissions): Foreign Service Institute, Office of the Executive Director, Room F-2205, U.S. Department of State, Washington, DC 20522-4201.

• Fax: 703-302-7227.

• You must include the DS form number (if applicable), information collection title, and OMB control number in any correspondence.

FOR FURTHER INFORMATION CONTACT: Direct requests for additional information regarding the collection listed in this notice, including requests for copies of the proposed information collection and supporting documents, to Coreen L. Brown, Foreign Service Institute, Office of the Executive Director, Room F-2205, U.S. Department of State, Washington, DC 20522-4201, who may be reached on 703-302-6731 or at browncl@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: DS-3083 was developed to collect necessary registration and payment information from any (non-government) United States person that is engaged in business abroad who is eligible, on a space available basis, for either of two courses offered annually or semi-annually by FSI for such non-government U.S. persons: “Private Sector Overseas Security Seminar” and “Study Abroad Administrators Security Overseas Seminar”.

Methodology: This information will be collected in hard copy format, which is either mailed or transmitted by facsimile machine to the Foreign Service Institute.

Dated: April 7, 2011.
Catherine J. Russell,
Executive Director, Foreign Service Institute, Department of State.

[FR Doc. 2011-9857 Filed 4-21-11; 8:45 am]

BILLING CODE 4710-34-P